DEPARTMENT OF TRANSPORTATION

Federal Railroad Administration

[Docket Number FRA-2025-0055]

Notice of Petition for Waiver of Compliance

AGENCY: Federal Railroad Administration (FRA), Department of Transportation (DOT).

ACTION: Notice.

SUMMARY: This document provides the public notice that Canadian Pacific Kansas City Limited (CPKC) petitioned FRA for relief from certain regulations concerning air brake testing.

DATES: FRA must receive comments on the petition by August 4, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Steven Zuiderveen, Railroad Safety Specialist, FRA Motive Power & Equipment Division, telephone: 202-493-6337, email: steven.zuiderveen@dot.gov.

SUPPLEMENTARY INFORMATION: Under part 211 of title 49 Code of Federal Regulations (CFR), this document provides the public notice that by letter dated April 4, 2025, CPKC petitioned FRA for a waiver of compliance from certain provisions of the Federal railroad safety regulations contained at 49 CFR part 232 (Brake System Safety Standards for Freight and Other Non-Passenger Trains and Equipment; End-of-Train Devices). CPKC also requests an exemption from the requirements of title 49, United States Code (U.S.C.), section 20303, which states that a rail vehicle with defective or insecure equipment may be moved when necessary to make repairs to the nearest available place at which the repairs can be made. FRA assigned the petition Docket Number FRA-2025-0055.

Specifically, CPKC seeks relief from §§ 232.5, Definitions; 232.15, Movement of defective equipment; 232.103(f), General requirements for all train brake systems; 232.205(a), Class I brake test—initial terminal inspection; and 232.213(a)(6)(ii), Extended haul trains. CPKC also seeks an exemption from the requirements of 49 U.S.C. 20303, for train CPKC 576, which hauls diluent reduced solid bitumen, is designated as an extended haul train, and operates between the loading facility in Rosyth, Alberta, Canada, and the ports near Port Arthur, Texas, United States. The requested relief would allow “technology-based advanced air brake testing [(the Brake Effectiveness Test (BET) Process)] performed by wayside wheel temperature detectors [(WTDs)] on heavy grade” as an alternative approach to manual Class I brake tests performed by Certified Car Inspectors (Qualified Mechanical Inspectors or qualified persons).

Currently, CPKC 576 receives a Class 1 brake test in Heavener, Oklahoma, U.S., but with the requested relief, CPKC would use the BET Process, including WTD data from the Heavener Subdivision, to perform the required brake test. CPKC states that the train will depart the Heavener location with at minimum 95% operative brakes based on the electronic brake effectiveness status from the BET Process, which is a more stringent percentage than the requirement in § 232.103(e).¹ CPKC further states that incorporating the BET Process “will result in no impact on the work performed in the U.S. and the operations in the U.S. would remain identical to the current operations.” In addition, CPKC cites the waiver's opportunity for data collection, as the data would “be used to further evaluate the effectiveness of BET on a long descending heavy grade of 1.0% over 5 miles,” which has not been tested on CPKC's network.

¹ Section 232.103(e) requires trains to have operative and effective brakes on 85% of cars.

CPKC also explains that certain exemptions allowing the BET Process are currently in use, but effective December 1, 2025, revisions to Canadian regulations “will allow railroads operating in Canada to use a BET Process and its technology as an alternative to manual Class I brake tests without the need for an exemption.” The revisions resulted from “consultation with relevant Canadian bargaining agents” and “evaluation of data collected over multiple years,” among other factors. In support of the request, CPKC adds that the BET Process has resulted in benefits over a manual brake test, including better identification of conditions warranting action and over 16,000 additional automated single car air brake tests performed by mechanical employees since 2011.

Pursuant to 49 U.S.C. 20306, FRA may grant an exemption from the requirements of 49 U.S.C. 20303 only on the basis of (1) evidence developed at a hearing; or (2) an agreement between national railroad labor representatives and the developer of the equipment or technology at issue. FRA notes that the public hearing FRA previously held to address a similar request for exemption from Union Pacific Railroad (Docket Number FRA-2016-0018) addresses substantially the same issues as this current request. Thus, FRA believes a separate public hearing on the current request is unnecessary, and in considering CPKC's request in this docket, FRA intends to rely on the findings of the hearing conducted in Docket Number FRA-2016-0018.

A copy of the petition, as well as any written communications concerning the petition, is available for review online at www.regulations.gov.

Interested parties are invited to participate in these proceedings by submitting written views, data, or comments.

Communications received by August 4, 2025 will be considered by FRA before final action is taken. Comments received after that date will be considered if practicable. Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-12484 Filed 7-2-25; 8:45 am]

BILLING CODE 4910-06-P